DEPARTMENT OF ENERGY

Federal Energy Regulatory Commission

[Project No. 2146-135]

Alabama Power Company; Notice of Application for Amendment of License and Soliciting Comments, Motions To Intervene, and Protests

Take notice that the following hydroelectric application has been filed with the Commission and is available for public inspection:

a. Application Type: Amendment of License.

b. Project No.: 2146-135.

c. Date Filed: February 7, 2012.

d. Applicant: Alabama Power Company.

e. Name of Project: Coosa River Project.

f. Location: The project is located on the Coosa River in Cherokee, Etowah, Calhoun, St. Clair, Talladega, Shelby, Coosa, Chilton, and Elmore counties, Alabama, and Floyd County, Georgia.

g. Filed Pursuant to: Federal Power Act, 16 U.S.C. 791(a)-825(r).

h. Applicant Contact: Mr. James F. Crew, Alabama Power Company, 600 North 18th Street, P.O. Box 2641, Birmingham, AL 35291-8180, (205) 257-4265.

i. FERC Contact: Kelly Houff, (202) 502-6393, Kelly.Houff@ferc.gov.

j. Deadline for filing comments, motions to intervene, and protests: March 13, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Application: Alabama Power Company seeks approval to replace turbine units 1 and 4 at the Lay Development, and turbine unit 2 at the Bouldin Development of the Coosa River Project. Specifically, at the Lay Development the licensee proposes to complete turbine refurbishment of the two turbines, stator coil replacement, wicket gate system rehabilitation, greaseless gate stem bushings installation, turbine and generator bearing refurbishment, and related component upgrades. For the Bouldin Development, the licensee proposes complete turbine refurbishment, stator coil replacement, wicket gate system rehabilitation or replacement, greaseless gate stem bushings installation, turbine and generator bearing refurbishment, and related component upgrades. The turbine unit modifications are expected to increase the turbine rating for each unit by approximately 4 megawatts (MW), as well as increase efficiency and annual generation. However, since the units are generator-limited, the installed capacity at the Lay and Bouldin developments will not change. The unit replacements at the Lay Development would provide approximately 13.6 percent increase in energy output, and the current full gate flow of 5,770 cubic feet per second (cfs) is expected to remain the same, plus or minus 15 percent. The unit replacement at the Bouldin Development would provide approximately 5 percent increase in energy output, and the current full gate flow of 9,600 cfs is expected to remain the same, plus or minus 15 percent.

l. A copy of the application is available for review at the Commission in the Public Reference Room or may be viewed on the Commission's Web site at http://www.ferc.gov using the “eLibrary” link. Enter the docket number (P-2146-135) excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

m. Individuals desiring to be included on the Commission's mailing list should so indicate by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

o. Agency Comments: Federal, state, and local agencies are invited to file comments on the described application. A copy of the application may be obtained by agencies directly from the applicant. If an agency does not file comments within the time specified for filing comments, it will be presumed to have no comments. One copy of an agency's comments must also be sent to the Applicant's representatives.

Dated: February 27, 2012.
Kimberly D. Bose,
Secretary.

[FR Doc. 2012-5108 Filed 3-1-12; 8:45 am]

BILLING CODE 6717-01-P